DEPARTMENT OF THE TREASURY

Internal Revenue Service

26 CFR Part 1

[TD 9323]

RIN 1545-BF64

Revisions to Regulations Relating to Repeal of Tax on Interest of Nonresident Alien Individuals and Foreign Corporations Received From Certain Portfolio Debt Investments; Correction

AGENCY: Internal Revenue Service (IRS), Treasury.

ACTION: Correction to final regulations.

SUMMARY: This document contains corrections to final regulations (TD 9323) that were published in the Federal Register on Thursday, April 12, 2007 (72 FR 18386) relating to the exclusion from gross income of portfolio interest paid to a nonresident alien individual or foreign corporation.

DATES: The correction is effective May 10, 2007.

FOR FURTHER INFORMATION CONTACT: Kathryn Holman of the Office of the Associate Chief Counsel (International), (202) 622-3840 (not a toll-free call).

SUPPLEMENTARY INFORMATION:

Background

The final regulations that are the subject of this correction are under sections 871 and 881 of the Internal Revenue Code.

Need for Correction

As published, final regulations (TD 9323) contain errors that may prove to be misleading and are in need of clarification.

Correction of Publication

Accordingly, the publication of the final regulations (TD 9323), which were the subject of FR Doc. E7-6766, is corrected as follows:

1. On page 18386, column 3, in the preamble, under the paragraph heading “1. Time for Applying the 10-Percent Shareholder Test”, ninth line of the last paragraph of the column, the language “under section 6031(c) is mailed, or the” is corrected to read “under section 6031(b) is mailed, or the”.

2. On page 18387, column 1, in the preamble, under the paragraph heading “1. Time for Applying the 10-Percent Shareholder Test”, tenth line of the first paragraph of the column, the language “section 6031(c) is mailed or otherwise” is corrected to read “section 6031(b) is mailed or otherwise”.

LaNita Van Dyke,
Chief, Publications and Regulations Branch, Legal Processing Division, Associate Chief Counsel (Procedure and Administration).

[FR Doc. E7-8923 Filed 5-9-07; 8:45 am]

BILLING CODE 4830-01-P